DEPARTMENT OF HEALTH AND HUMAN SERVICES

Centers for Disease Control and Prevention

Proposed Office of State, Tribal, Local and Territorial Support (OSTLTS)

In accordance with Presidential Executive Order No. 13175, November 6, 2000, and the Presidential Memorandum of November 5, 2009, and September 23, 2004, Consultation and Coordination with Indian Tribal Governments, the Centers for Disease Control and Prevention (CDC), OSTLTS announces the following Tribal Consultation Advisory Committee (TCAC) Meeting and Tribal Consultation Session:

Name: Tribal Consultation Advisory Committee (TCAC) Meeting and 5th Biannual Tribal Consultation Session

Times and Dates: TCAC Meeting on July 26-28, 2010, from 8 a.m.-6 p.m. and the 5th Biannual CDC Tribal Consultation Session on July 29, 2010, from 8-6 p.m.

Place: The July 26 TCAC Meeting will be on the Ft. Belknap Indian Reservation, Harlem, MT; the July 27th TCAC Meeting will be on the Rocky Boy's Reservation, Box Elder, MT; the July 28 TCAC Meeting and the July 29th Consultation Session will be held at the Montana State University—Northern, Havre, MT. All meetings are being hosted by the Ft. Belknap Indian Reservation and Rocky Boy's Reservation. Meetings are open to the public with a special invitation to Montana and Wyoming American Indian Tribal leaders, Montana and Wyoming State Health Department Officials, and all American Indian/Alaska Native (AI/AN) Tribal leaders from across the nation and other AI/AN stakeholders.

Purpose: CDC released their Tribal Consultation Policy in October of 2005 with the primary purpose of providing guidance across the agency to work effectively with AI/AN tribes, communities, and organizations to enhance AI/AN access to CDC resources and programs. In November of 2006, an Agency Advisory Committee (CDC/ATSDR Tribal Consultation Advisory Committee—TCAC) was established to provide a complementary venue wherein tribal representatives and CDC staff will exchange information about public health issues in Indian Country, identifying urgent public health needs in American Indian/Alaska Native (AI/AN) communities, and discuss collaborative approaches to these issues and needs. Within the CDC Consultation Policy, it is stated that CDC will conduct government-to-government consultation with elected tribal officials or their designated representatives and also confer with tribal and Alaska Native organizations and AI/AN urban and rural communities before taking actions and/or making decisions that affect them. Consultation is an enhanced form of communication that emphasizes trust, respect, and shared responsibility. It is an open and free exchange of information and opinion among parties that leads to mutual understanding and comprehension. CDC believes that consultation is integral to a deliberative process that results in effective collaboration and informed decision making with the ultimate goal of reaching consensus on issues. Although formal responsibility for the agency's overall government-to-government consultation activities rests within the Office of the Director (OD), other OD Offices and National Center leadership shall actively participate in TCAC meetings and HHS-sponsored regional and national tribal consultation sessions as frequently as possible.

Matters to Be Discussed: The TCAC will convene their advisory committee meeting with discussions and presentations from various CDC senior leadership on activities and areas identified by TCAC members and other tribal leaders as priority public health issues. The Biannual Tribal Consultation Session will engage CDC Senior leadership from the Office of the Director and various CDC Offices and National Centers including the Financial Management Office (FMO), proposed Office of the Associate Director of Communications (OC), proposed Office for State, Tribal, Local and Territorial Support (OSTLTS), National Center for Environmental Health and the Agency for Toxic Substances and Disease Registry (NCEH-ATSDR), National Center for Chronic Disease Prevention and Health Promotion (NCCDPHP) as well as others. Opportunities will be provided during the Consultation Session for tribal testimony. Tribal Leaders are encouraged to submit written testimony by COB on July 15, 2010, to CAPT Pelagie (Mike) Snesrud, Senior Tribal Liaison for Policy and Evaluation, Office of State, Tribal, Local and Territorial Support (proposed OSTLTS), 1600 Clifton Road, NE., MS K-86 Atlanta, GA 30329, telephone 770-488-1625, e-mail: pws8@cdc.gov. Depending on the time available it may be necessary to limit the time of each presenter.

For Further Information Contact: CAPT Pelagie (Mike) Snesrud by e-mail at: pws8@cdc.gov or telephone 770-488-1625. Please reference the Web link of http://www.cdc.gov/omhd/TCAC/AAC.html to review information about the TCAC and CDC's Tribal Consultation Policy and previous meetings. The Director, Management Analysis and Services Office has been delegated the authority to sign Federal Register notices pertaining to announcements of meetings and other committee management activities, for both CDC and the Agency for Toxic Substances and Disease Registry.

Dated: June 10, 2010.
Elaine L. Baker,
Director, Management Analysis and Services Office, Centers for Disease Control and Prevention.

[FR Doc. 2010-14800 Filed 6-17-10; 8:45 am]

BILLING CODE 4163-18-P